DEPARTMENT OF TRANSPORTATION

Federal Transit Administration

Limitation on Claims Against Proposed Public Transportation Projects

AGENCY: Federal Transit Administration (FTA); DOT; U.S. Army Corps of Engineers (USACE).

ACTION: Notice of limitation on claims for judicial review of actions by the USACE.

SUMMARY: FTA is issuing this notice to announce action taken by the USACE that is final within the meaning of the United States Code. The action relates to the construction of the Potomac Yard Metrorail Station in the City of Alexandria, Virginia (the Project). The USACE granted a Department of the Army permit, pursuant to Section 404 of the Clean Water Act, as amended, authorizing the City of Alexandria to discharge dredged or fill material into Waters of the United States at specified locations related to the Project.

DATES: By this notice, FTA is advising the public of final agency actions subject to 23 U.S.C. 139(l). A claim seeking judicial review of the identified Federal agency action related to the Project will be barred unless the claim is filed on or before June 22, 2020. If the Federal law that authorizes judicial review of a claim provides a time period of less than 150 days for filing such claim, then that shorter time period still applies.

FOR FURTHER INFORMATION CONTACT: For FTA: Nancy-Ellen Zusman, Assistant Chief Counsel, Office of Chief Counsel, (312) 353-2577 or Juliet Bochicchio, Environmental Protection Specialist, Office of Environmental Programs, (202) 366-9348. FTA is located at 1200 New Jersey Avenue SE, Washington, DC 20590. Office hours are from 9:00 a.m. to 5:00 p.m., Monday through Friday, except Federal holidays. For USACE: Department of the Army, Norfolk District, U.S. Army Corps of Engineers Regulatory Branch, Attn: Theresita Crockett-Augustine, 18139 Triangle Shopping Plaza, Suite 213, Dumfries, Virginia, 22026; telephone: (757) 201-7194.

SUPPLEMENTARY INFORMATION: Notice is hereby given that the USACE has taken final agency action by issuing certain approval related to the Project. The actions on the Project, as well as the laws under which such actions were taken, are described in the Department of the Army Permit and related documents in the USACE administrative record for the permit action. Interested parties may contact the USACE Norfolk District for more information on the USACE's permit decision. Contact information for the appropriate USACE representative is above. Contact information for FTA's Regional Offices may be found at https://www.fta.dot.gov.

This notice applies to all USACE decisions on the listed project as of the issuance date of this notice and all laws under which such actions were taken, including, but not limited to, NEPA [42 U.S.C. 4321-4375], Section 106 of the National Historic Preservation Act [54 U.S.C. 306108], and the Clean Water Act [33 U.S.C. 1251-1387]. This notice does not, however, alter or extend the limitation period for challenges of project decisions subject to previous notices published in the Federal Register. The project and action that is the subject of this notice follow:

Project name and location: Potomac Yard Metrorail Station, City of Alexandria, Virginia. Project sponsor: City of Alexandria. Project description: The project will construct the new Potomac Yard Metrorail Station, associated tracks, and additional auxiliary structures on an approximately 18-acre site in Alexandria, Virginia for use by the Washington Metropolitan Area Transit Authority. Final agency action: Department of the Army permit issued pursuant to Section 404 Clean Water Act, effective November 15, 2019. Supporting documentation: USACE Finding of No Significant Impact issued November 15, 2019. The USACE decision and permit No. NAO 2012-02012/19-V0170 are available by contacting USACE at the address provided above.

This notice applies to all Federal agency decisions as of the issuance date of this notice and all laws under which the final action was taken.

Authority: 23 U.S.C. 139(l)(1).

Felicia L. James,
Associate Administrator for Planning and Environment.

[FR Doc. 2020-01004 Filed 1-22-20; 8:45 am]

BILLING CODE P